DEPARTMENT OF ENERGY

Federal Energy Regulatory Commission

[Project Nos. 12929-002 and 14079-000]

FFP Project 40, LLC and Northland Power Mississippi River LLC; Notice Announcing Preliminary Permit Drawing

The Commission has received two preliminary permit applications deemed filed on February 1, 2011, at 8:30 a.m.,¹ for proposed projects to be located on the Mississippi River, near the town of Helena, in Phillips County Arkansas, and Tunica and Coahoma counties, Mississippi. The applications were filed by FFP Project 40, LLC for Project No. 12929-002, and Northland Power Mississippi River LLC for Project No. 14079-000.

¹ Under the Commission's Rules of Practice and Procedure, any document received after regular business hours is considered filed at 8:30 a.m. on the next regular business day. 18 CFR 385.2001(a)(2) (2011).

On January 17, 2012, at 9 a.m. (eastern time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: January 10, 2012.
Nathaniel J. Davis, Sr.,
Deputy Secretary.

[FR Doc. 2012-700 Filed 1-13-12; 8:45 am]

BILLING CODE 6717-01-P